DEPARTMENT OF ENERGY

Federal Energy Regulatory Commission

Combined Notice of Filings #1

Take notice that the Commission received the following electric corporate filings:

Docket Numbers: EC13-129-000.

Applicants: Arizona Solar One LLC.

Description: Application of Arizona Solar One LLC for Authorization under Section 203 of the Federal Power Act for the Disposition of Jurisdictional Facilities, Request for Expedited Consideration and Confidential Treatment.

Filed Date: 7/12/13.

Accession Number: 20130712-5183.

Comments Due: 5 p.m. ET 8/2/13.

Docket Numbers: EC13-130-000.

Applicants: Direct LP, Inc., Bounce Energy NY, LLC, Bounce Energy PA, LLC.

Description: Section 203 Application of Direct LP, Inc., et al.

Filed Date: 7/12/13.

Accession Number: 20130712-5191.

Comments Due: 5 p.m. ET 8/2/13.

Take notice that the Commission received the following electric rate filings:

Docket Numbers: ER13-1970-000.

Applicants: PJM Interconnection, L.L.C.

Description: PJM Interconnection, L.L.C. submits tariff filing per 35.13(a)(2)(iii: Queue Position V1-026/V1-027; Second Revised Service Agrmt No. 2860 to be effective 6/12/2013.

Filed Date: 7/12/13.

Accession Number: 20130712-5147.

Comments Due: 5 p.m. ET 8/2/13.

Docket Numbers: ER13-1971-000.

Applicants: California Independent System Operator Corporation.

Description: California Independent System Operator Corporation submits 2013-07-12_CFTC_Exemption to be effective 9/16/2013.

Filed Date: 7/12/13.

Accession Number: 20130712-5162.

Comments Due: 5 p.m. ET 8/2/13.

Take notice that the Commission received the following electric securities filings:

Docket Numbers: ES13-29-000.

Applicants: California Independent System Operator Corporation.

Description: Filing of Supplemental Information Relating to 204 Application of the California Independent System Operator Corporation.

Filed Date: 7/12/13.

Accession Number: 20130712-5173.

Comments Due: 5 p.m. ET 7/22/13.

Docket Numbers: ES13-32-000.

Applicants: Upper Peninsula Power Company.

Description: Supplement to June 24, 2013 Application for Renewed Authorization to Issue Long-Term Debt of Upper Peninsula Power Company.

Filed Date: 7/12/13.

Accession Number: 20130712-5186.

Comments Due: 5 p.m. ET 7/22/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 15, 2013.
Nathaniel J. Davis, Sr.,
Deputy Secretary.

[FR Doc. 2013-17482 Filed 7-19-13; 8:45 am]

BILLING CODE 6717-01-P